AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before April 25, 2006.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION: OMB No.: OMB 0412-0556.

Form No.: N/A.

Title: Monetization Report.

Type of Review: Renewal of Information Collection.

Purpose: The Monetization Report is used to help the U.S. Agency for International Development (USAID) Missions determine the status of the commodities monetized by the Cooperating Sponsors under the Public Law 480 title II program. The Monetization Profile provides USAID Missions with a checklist of important questions about the Cooperating Sponsors' monetization transactions. The Cooperating Sponsors verify the Free Alongside Ship (FAS) price quotation that has been provided by USAID's Office of Food for Peace, the foreign flag estimate or rate, the sales price obtained, and the method for which the commodities have been sold. All of this information is necessary for USAID Missions to collect verifiable information and to determine that Cooperating Sponsors are meeting USAID's cost recovery benchmark.

Annual Reporting Burden:

Respondents: 20.

Total annual responses: 20.

Total annual hours requested: 240.

Dated: February 15, 2006.
Joanne Paskar,
Chief, Information and Records Division, Office of Administrative Services, Bureau for Management.

[FR Doc. 06-1726 Filed 2-23-06; 8:45 am]

BILLING CODE 6116-01-M